DEPARTMENT OF ENERGY

Federal Energy Regulatory Commission

Combined Notice of Filings #1

March 28, 2007.

Take notice that the Commission received the following electric rate filings:

Docket Numbers: ER99-845-011.

Applicants: Puget Sound Energy, Inc.

Description: Puget Sound Energy, Inc submits notice of change in status, pursuant to the requirements of Order 652.

Filed Date: 03/23/2007.

Accession Number: 20070327-0243.

Comment Date: 5 p.m. Eastern Time on Friday, April 13, 2007.

Docket Numbers: ER99-2602-007.

Applicants: LSP-Kendall Energy, LLC.

Description: LSP-Kendall Energy, LLC submits its updated triennial market power analysis.

Filed Date: 03/26/2007.

Accession Number: 20070327-0196.

Comment Date: 5 p.m. Eastern Time on Monday, April 16, 2007.

Docket Numbers: ER99-4102-006.

Applicants: Milford Power Company, LLC.

Description: Milford Power Company, LLC submits a notice of change in status that the Commission relied upon to grant them market-based rate authority.

Filed Date: 03/26/2007.

Accession Number: 20070327-0195.

Comment Date: 5 p.m. Eastern Time on Monday, April 16, 2007.

Docket Numbers: ER05-89-008; ER95-1528-015; ER96-1088-042; ER01-2659-009; ER02-2199-007; ER03-54-007; ER03-56-007; ER96-1858-020; ER03-674-009; ER99-1936-008; ER01-1114-008; ER01-2306-002; ER97-2758-015.

Applicants: Wisconsin Public Service Corporation; WPS Power Development, LLC and WPS Energy Services, Inc.; Combined Locks Energy Center, LLC; WPS Empire State, Inc.; WPS Beaver Falls Generation, LLC; WPS Syracuse Generation, LLC; Mid-American Power, LLC; Quest Energy, LLC; WPS Canada Generation, Inc and WPS New England Generation, Inc.; WPS Westwood Generation, LLC; Peoples Energy Services Corporation; Advantage Energy, Inc., Upper Peninsula Power Company.

Description: Integrys Energy Group Inc on behalf of its subsidiaries submits a notice of change in status as set forth in the Commission's Order 652.

Filed Date: 03/23/2007.

Accession Number: 20070327-0153.

Comment Date: 5 p.m. Eastern Time on Friday, April 13, 2007.

Docket Numbers: ER06-1410-002; ER06-1411-002.

Applicants: Entergy Nuclear Palisades, LLC; Entergy Nuclear Power Marketing, LLC.

Description: Entergy Nuclear Palisades, LLC et al. submits revised pages to their tariff to remove references to the sale of ancillary services in the Midwest ISO market area.

Filed Date: 03/23/2007.

Accession Number: 20070327-0154.

Comment Date: 5 p.m. Eastern Time on Friday, April 13, 2007.

Docket Numbers: ER07-314-002.

Applicants: Southwest Power Pool, Inc.

Description: Southwest Power Pool, Inc submits its partially executed revised Network Integration Transmission Service Agreement with American Electric Power Service Corp agent for Public Service Company of Oklahoma.

Filed Date: 03/26/2007.

Accession Number: 20070327-0198.

Comment Date: 5 p.m. Eastern Time on Monday, April 16, 2007.

Docket Numbers: ER07-419-001.

Applicants: PJM Interconnection L.L.C.

Description: PPL Electric Utilities Corp responds to FERC's 2/22/07 letter that requested additional information re the 1/8/07 filing of Third Revised Service Agreement 941 with Metropolitan Edison Company.

Filed Date: 03/26/2007.

Accession Number: 20070327-0191.

Comment Date: 5 p.m. Eastern Time on Monday, April 16, 2007.

Docket Numbers: ER07-575-001.

Applicants: MidAmerican Energy Company.

Description: MidAmerican Energy Company submits copies of the Network Integration Transmission Service Agreement & Network Operating Agreement, designated as First Revised Service Agreement 117.

Filed Date: 03/26/2007.

Accession Number: 20070328-0074.

Comment Date: 5 p.m. Eastern Time on Monday, April 16, 2007.

Docket Numbers: ER07-649-000.

Applicants: EL Segundo Power II, LLC.

Description: El Segundo Power II, LLC submits an application for market based rate authority and associated waivers and blanket approvals.

Filed Date: 03/23/2007.

Accession Number: 20070327-0157.

Comment Date: 5 p.m. Eastern Time on Friday, April 13, 2007.

Docket Numbers: ER07-650-000.

Applicants: Integrys Energy Services, Inc.

Description: Integrys Energy Services of New York, Inc submits a notice of succession informing FERC that WPS Energy services, Inc has changed its name to Integrys Energy Services, Inc.

Filed Date: 03/23/2007.

Accession Number: 20070327-0156.

Comment Date: 5 p.m. Eastern Time on Friday, April 13, 2007.

Docket Numbers: ER07-651-000.

Applicants: Integrys Energy Services of New York, Inc.

Description: Integrys Energy Services of New York, Inc submits notice of succession informing FERC that Advantage Energy, Inc has changed its name to Integrys Energy Services of New York, Inc.

Filed Date: 03/23/2007.

Accession Number: 20070327-0155.

Comment Date: 5 p.m. Eastern Time on Friday, April 13, 2007.

Docket Numbers: ER07-652-000.

Applicants: Niagara Mohawk Power Corporation.

Description: Niagara Mohawk Power Corp dba National Grid submits its Original Service Agreement 929 with Hampshire Paper Co, Inc under NYISO's OATT, FERC Electric Tariff, Original Volume 1.

Filed Date: 03/23/2007.

Accession Number: 20070327-0182.

Comment Date: 5 p.m. Eastern Time on Friday, April 13, 2007.

Docket Numbers: ER07-653-000.

Applicants: The United Illuminating Company.

Description: The United Illuminating Co request for approval of incentive rate treatment for costs associated w/ construction of a new 345-kV transmission line and upgrades to the existing 115-kV line from Middletown to Norwalk, Connecticut.

Filed Date: 03/23/2007.

Accession Number: 20070327-0245.

Comment Date: 5 p.m. Eastern Time on Friday, April 13, 2007.

Docket Numbers: ER07-654-000.

Applicants: Southern Company Services, Inc.

Description: Southern Company Services as agent for Mississippi Power Co submits a Notice of Cancellation of Interconnection Agreement by and between KGen Enterprise LLC and Mississippi Power etc.

Filed Date: 03/26/2007.

Accession Number: 20070327-0158.

Comment Date: 5 p.m. Eastern Time on Monday, April 16, 2007.

Docket Numbers: ER07-655-000.

Applicants: ISO New England Inc.

Description: ISO New England Inc submits materials which identify the monthly Installed Capacity Requirements established by the ISO for the 2007/2008 Power.

Filed Date: 03/23/2007.

Accession Number: 20070327-0159.

Comment Date: 5 p.m. Eastern Time on Friday, April 13, 2007.

Docket Numbers: ER07-656-000.

Applicants: CMT Fund IX LLC.

Description: CMT Fund IX LLC submits an application for authority to sell electric power and related services at market based rates.

Filed Date: 03/26/2007.

Accession Number: 20070327-0160.

Comment Date: 5 p.m. Eastern Time on Monday, April 16, 2007.

Docket Numbers: ER07-657-000.

Applicants: Westar Energy, Inc.

Description: Westar Energy, Inc submits notice of cancellation of an Electric Power Supply Agreement with the City of Minneapolis, Kansas designated as First Revised FERC Rate Schedule 211.

Filed Date: 03/26/2007.

Accession Number: 20070327-0197.

Comment Date: 5 p.m. Eastern Time on Monday, April 16, 2007.

Docket Numbers: ER07-658-000.

Applicants: Williams Power Company, Inc.

Description: Williams Power Co, Inc submits its proposed FERC Electric Rate Schedule 2 and supporting cost data.

Filed Date: 03/26/2007.

Accession Number: 20070327-0194.

Comment Date: 5 p.m. Eastern Time on Monday, April 16, 2007.

Docket Numbers: ER07-659-000.

Applicants: Westar Energy, Inc.

Description: Westar Energy, Inc submits notice of cancellation of an Electric Power Supply Agreement w/the City of Hillsboro, Kansas, designated as First Revised FERC Rate Schedule 234.

Filed Date: 03/26/2007.

Accession Number: 20070328-0077.

Comment Date: 5 p.m. Eastern Time on Monday, April 16, 2007.

Docket Numbers: ER07-660-000.

Applicants: Westar Energy, Inc.

Description: Westar Energy, Inc submits Notice of Cancellation of an Electric Power Supply Agreement with the City of Sabetha, Kansas designated as First Revised Rate Schedule 235.

Filed Date: 03/26/2007.

Accession Number: 20070328-0075.

Comment Date: 5 p.m. Eastern Time on Monday, April 16, 2007.

Docket Numbers: ER07-661-000.

Applicants: Westar Energy, Inc.

Description: Westar Energy, Inc submits Notice of Cancellation of an Electric Power Supply Agreement with the City of Holton, Kansas designated as First Revised Rate Schedule FERC 226.

Filed Date: 03/26/2007.

Accession Number: 20070328-0076.

Comment Date: 5 p.m. Eastern Time on Monday, April 16, 2007.

Docket Numbers: ER07-662-000.

Applicants: PJM Interconnection, LLC.

Description: PJM Interconnection LLC submits a signature page to the PJM Consolidated Transmission Owners Agreement executed by Neptune Regional Transmission System LLC and a revised Attachment A to the TOA.

Filed Date: 03/27/2007.

Accession Number: 20070328-0072.

Comment Date: 5 p.m. Eastern Time on Tuesday, April 17, 2007.

Docket Numbers: ER07-664-000.

Applicants: Conectiv Energy Supply, Inc.

Description: Conectiv Energy Supply, Inc submits their request to make wholesale power sales to its affiliate, Delmarva Power & Light Co.

Filed Date: 03/27/2007.

Accession Number: 20070328-0168.

Comment Date: 5 p.m. Eastern Time on Tuesday, April 17, 2007.

Docket Numbers: ER07-667-000.

Applicants: Xcel Energy Operating Companies.

Description: Xcel Energy Services Inc on behalf of Public Service Company of Colorado submits proposed corrections to the previously filed revisions to the Substitute First Revised Sheet 325.

Filed Date: 03/26/2007.

Accession Number: 20070328-0073.

Comment Date: 5 p.m. Eastern Time on Monday, April 16, 2007.

Take notice that the Commission received the following public utility holding company filings:

Docket Numbers: PH07-9-000.

Applicants: CNG Holdings, Inc.

Description: CNG Holdings Inc. submits FERC Form 65 A Exemption Notification.

Filed Date: 03/16/2007.

Accession Number: 20070316-5058.

Comment Date: 5 p.m. Eastern Time on Friday, April 06, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6107 Filed 4-2-07; 8:45 am]

BILLING CODE 6717-01-P